DEPARTMENT OF COMMERCE

National Oceanic and Atmospheric Administration

RIN 0648-XC010

Marine Mammals; File No. 14325

AGENCY: National Marine Fisheries Service (NMFS), National Oceanic and Atmospheric Administration (NOAA), Commerce.

ACTION: Notice; issuance of permit amendment.

SUMMARY: Notice is hereby given that a major amendment to Permit No. 14325-01 has been issued to the Alaska Department of Fish and Game (ADF&G), Division of Wildlife Conservation, Juneau, AK, (Principal Investigator: Michael Rehberg).

ADDRESSES: The permit amendment and related documents are available for review upon written request or by appointment in the following offices:

Permits and Conservation Division, Office of Protected Resources, NMFS, 1315 East-West Highway, Room 13705, Silver Spring, MD 20910; phone (301) 427-8401; fax (301) 713-0376; and Alaska Region, NMFS, P.O. Box 21668, Juneau, AK 99802-1668; phone (907) 586-7221; fax (907) 586-7249.

FOR FURTHER INFORMATION CONTACT: Tammy Adams or Amy Sloan, (301)427-8401.

SUPPLEMENTARY INFORMATION: On May 2, 2012, notice was published in the Federal Register (77 FR 25963) that a request for an amendment to Permit No. 14325-01 to conduct research on Steller sea lions (Eumetopias jubatus) in Alaska had been submitted by the above-named applicant. The requested permit amendment has been issued under the authority of the Marine Mammal Protection Act of 1972, as amended (16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

The permit has been amended to incorporate changes to the terms and conditions related to numbers of animals taken and to the location and manner of taking to include: Manual restraint of pups in the eastern Distinct Population Segment (eDPS) and western DPS (wDPS); capture of adult Steller sea lions using remotely delivered immobilization agents; adding jugular blood draw/catheter location for sampling and Evans Blue injection; adding the intraperitoneal cavity to allowable deuterium injection sites; modifying time of year and number of takes for the Alsek/Akwe aerial surveys; and adding aerial surveys at Cape Newenham haulout and in the northern Bering Sea. The amendment is valid through the original permit expiration date, August 31, 2014.

In compliance with the National Environmental Policy Act of 1969 (42 U.S.C. 4321 et seq.), NMFS has determined that the activities proposed are consistent with the Preferred Alternative in the Final Programmatic Environmental Impact Statement for Steller Sea Lion and Northern Fur Seal Research (NMFS 2007), and that issuance of the permit would not have a significant adverse impact on the human environment.

As required by the ESA, issuance of this permit was based on a finding that such permit: (1) Was applied for in good faith; (2) will not operate to the disadvantage of such endangered species; and (3) is consistent with the purposes and policies set forth in section 2 of the ESA.

Dated: June 21, 2012.
P. Michael Payne,
Chief, Permits and Conservation Division, Office of Protected Resources, National Marine Fisheries Service.

[FR Doc. 2012-15766 Filed 6-27-12; 8:45 am]

BILLING CODE 3510-22-P